DEPARTMENT OF ENERGY

Federal Energy Regulatory Commission

[Project No. 2354-109]

Georgia Power Company; Notice of Application for Amendment of License and Soliciting Comments, Motions To Intervene, and Protests

May 14, 2010.

Take notice that the following hydroelectric application has been filed with the Commission and is available for public inspection:

a. Type of Application: Request to remove lands from the project boundary.

b. Project No: 2354-109.

c. Date Filed: March 23, 2010, supplemented May 7, 2010.

d. Applicant: Georgia Power Company.

e. Name of Project: North Georgia Hydroelectric Project.

f. Location: The project is located in the Savannah River System, on the Tallulah, Chattooga, and Tugalo Rivers in Rabun, Habersham, and Stephens Counties, Georgia, and Oconee County, South Carolina. The lands proposed for removal from the project boundary are located on the project's Tallulah Falls development in Rabun County, Georgia.

g. Pursuant to: Federal Power Act, 16 U.S.C. 791a-825r.

h. Applicant Contact: Joseph Charles, Hydro License Coordinator, Georgia Power Company, Bin 10151, 241 Ralph McGill Boulevard NE., Atlanta, GA 30308-3374; telephone: (404) 506-2337.

i. FERC Contact: Any questions on this notice should be addressed to Mr. Christopher Yeakel at (202) 502-8132, or e-mail address: christopher.yeakel@ferc.gov.

j. Deadline for filing comments and or motions: June 14, 2010.

Comments, protests, and interventions may be filed electronically via the Internet in lieu of paper. See 18 CFR 385.2001(a)(1)(iii) and the instructions on the Commission's Web site (http://www.ferc.gov) under the “e-filing” link. The Commission strongly encourages electronic filings.

All documents (original and eight copies) filed by paper should be sent to: Secretary, Federal Energy Regulatory Commission, 888 First Street, NE., Washington, DC 20426. Please include the project number (P-2354-109) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Application: The licensee proposes to remove 4.26 acres of land and an existing building from the project boundary to enable the donation of the parcel to the Rabun County Convention and Visitors Bureau Authority, who would use the building and parcel for a Creative Economies Center that includes retail space, visitor information, and permanent and rotating exhibitions.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits (P-2354) in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-12237 Filed 5-20-10; 8:45 am]

BILLING CODE 6717-01-P